DEPARTMENT OF THE INTERIOR

Bureau of Land Management

[NV-060-1990; 08-08807; TAS: 14X1109]

Notice of Availability of Final Cortez Hills Expansion Project Environmental Impact Statement, Nevada

AGENCY: Bureau of Land Management, Interior.

ACTION: Notice of availability.

SUMMARY: In accordance with the National Environmental Policy Act of 1969 (NEPA, 42 U.S.C. 4321 et seq.), the Bureau of Land Management (BLM) has prepared a Final Environmental Impact Statement (FEIS) for the Cortez Gold Mines (CGM) proposed Cortez Hills Expansion Project (project) and by this Notice is announcing its availability.

DATES: The BLM will not issue a Record of Decision (ROD) on the proposal for a minimum of 30 days following the Environmental Protection Agency's publication of a Notice of Availability (NOA) of this document in the Federal Register.

ADDRESSES: Copies of the Cortez Hills Expansion Project Final EIS are available in the BLM Battle Mountain District Office, 50 Bastian Road, Battle Mountain, Nevada, during regular business hours of 7:30 a.m. to 4:30 p.m., Monday through Friday, except holidays. Copies are also available via the Internet at www.blm.gov/nvst/en/fo//battle_mountain_field.html. Electronic (on CD-ROM) or paper copies are also available.

FOR FURTHER INFORMATION CONTACT: Stephen Drummond, BLM Battle Mountain District Office at (775) 635-4000.

SUPPLEMENTARY INFORMATION: CGM, on behalf of the Cortez Joint Venture, proposes to expand its Pipeline/South Pipeline Project, an existing open-pit gold mining and processing operation. The Pipeline/South Pipeline Project is located in north-central Nevada approximately 31 miles south of Beowawe in Lander County.

The proposed project is located in Lander and Eureka counties:

Mount Diablo Meridian, Nevada

T. 27 N., R. 48 E.;

T. 27 N., R. 47 E.;

T. 27 N., R. 46 E.;

T. 26 N., R. 47 E.;

T. 26 N., R. 48 E.;

T. 28 N., R. 46 E.;

T. 28 N., R. 47 E.

The proposed project would require new surface disturbance of approximately 6,633 acres, including 6,412 acres of public land administered by the BLM Battle Mountain District and 221 acres of private land owned by CGM. Existing CGM mining and processing facilities are located in three main areas in the Cortez Gold Mines Operations Area. These areas are referred to as the Pipeline Complex, Cortez Complex, and Gold Acres Complex. The proposed project would include development of new mining facilities in the proposed Cortez Hills Complex, including development of a new open pit, underground mining, three new waste rock facilities, new heap leach pad, construction of a 12-mile conveyor system and modification or construction of related roads and ancillary facilities. The proposed project also would include continued use of existing facilities in the Pipeline Complex, Cortez Complex, and Gold Acres Complex, as well as expansion of existing facilities (pits and waste rock facilities) in the Pipeline Complex and Cortez Complex. The life of the mine would include approximately 10 years of active mining and concurrent reclamation as areas become available, as well as an additional three years for on-going ore processing, final reclamation, and closure.

A range of alternatives was developed and analyzed in the Draft and Final EIS to address the concerns and issues that were identified. These include alternate waste rock facility and heap leach pad locations, underground mining only, revised pit design, and the No Action Alternative. The rationale for alternatives considered but eliminated from detailed analysis also is discussed. Mitigation measures have been identified, as needed, to minimize potential environmental impacts and to assure that the proposed project would not result in undue or unnecessary degradation of public lands. In addition, the Final EIS includes an analysis of cumulative impacts, including a comprehensive evaluation of potential impacts to Native American cultural values.

A Notice of Intent (NOI) to prepare an EIS was published in the Federal Register on December 2, 2005. Two public scoping meetings were held in 2005 in Crescent Valley and Battle Mountain. The Draft EIS was released for public review, with a 60-day comment period, on October 7, 2007. Following release of the Draft EIS, two public comment meetings were held in Crescent Valley and Battle Mountain in November 2007 to solicit additional comments on the document. Comment responses and resultant changes in the impact analyses are documented in the Final EIS.

Based on the results of the analysis of the Proposed Action for the Draft EIS and in response to public comments, CGM developed the Revised Cortez Hills Pit Design Alternative, which the BLM evaluated as an alternative to the Proposed Action in the Final EIS. This alternative was developed to address long-term stability issues identified for the east wall of the proposed Cortez Hills Pit. The revised Cortez Hills Pit design includes a flatter east pit wall and associated reduction in the size of the open pit, expansion of the underground mining component, and an associated reduction in the size of the Canyon, North, and South waste rock facilities. The Revised Cortez Hills Pit Design Alternative lies within the spectrum of alternatives analyzed in the Draft EIS, and is a minor variation of an alternative analyzed.

Authority: 40 CFR 1506.6.

Gerald M. Smith,
District Manager, Battle Mountain.

[FR Doc. E8-23251 Filed 10-2-08; 8:45 am]

BILLING CODE 4310-HC-P